DEPARTMENT OF HEALTH AND HUMAN SERVICES

Centers for Disease Control and Prevention

[60 Day-01-32]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

NIOSH Website for Kids and Teens—NEW—The National Institute for Occupational Safety and Health (NIOSH), Centers for Disease Control and Prevention (CDC). The mission of the National Institute for Occupational Safety and Health is to promote safety and health at work for all people through research and prevention.

The goal of this project is to develop a more effective means of communicating NIOSH occupational safety and health (OSH) information to youth via the NIOSH Website for Kids and Teens. NIOSH research indicates that approximately 80% of youths are employed at some point before they leave high school. Research also indicates that despite being prevented by child labor laws from engaging in the most dangerous occupations, teens have a higher rate of injury per hour worked than adults. Each year, 70 teens die from work injuries. Another 200,000 are injured on the job each year. Of these, about 100,000 are injured seriously enough to require emergency room treatment.

This project will identify effective promotional methods to assure a high level of awareness of the NIOSH Website for Kids and Teens among youth and to generate a high volume of first-time visitors to the website. This project will also develop enhanced website content to increase the relevance of the NIOSH Website for Kids and Teens for the youth audience and to insure repeated visits to the website. The Theory of Planned Behavior (TPB) will be used to guide the assessment of youth attitudes and intentions regarding the usage of an OSH website. This information will be used to tailor promotional messages to increase their appeal to youth who report that they would not be likely to visit an OSH website. The effectiveness of the tailored promotional messages will be contrasted with that of untailored messages.

Due to significant differences in cognitive and emotional development, the youth audience targeted by this study will be segmented into three age groups, 5-8, 9-14, and 15-19. These age groups roughly correspond to elementary, middle, and high school. Different website content will be developed for each age group.

Since youth from rural and urban backgrounds have different opportunities for employment, it is expected that youth from these two areas will have different OSH information needs. This study will recruit representative samples of youth from both rural and urban areas. Differences found between youth from these two areas will be used to tailor website content for each group. The impact of this tailoring will be assessed by systematically matching and mismatching this tailored content with representative samples of youth from each area.

The aims of this project will be accomplished in three phases: 1) Representative samples from each of three targeted age groups (5-8, 9-14, 15-19) will be surveyed regarding their preferences for website content, style, promotional channels, behavioral intentions, behavioral norms, and perceived behavioral constraints; 2) Pretesting of enhanced OSH website content and format developed by this study on representative samples of the targeted age groups and of promotional materials; 3) A promotional campaign using a 3 (elementary, middle, and high school age groups) X 2 (tailored promotional messages, untailored promotional messages) X 2 (rural, urban) design. Promotional messages will be placed in venues (such as magazines or television programs) that have youth oriented content. The effectiveness of these promotional channels and messages will be determined by monitoring the volume of visits to the respective internet portal pages for the NIOSH Website for Kids and Teens.

Based on an entry level hourly wage of $5.15, the total cost to respondents is $15,450.

Type of survey | Type of respondents | No. of respondents | No. of responses per respondents | Average burden per response (in hours) | Total burden (in hours)
Audience Need and Preference Survey | Elementary, middle, and high school students | 750 | 1 | 2 | 1,500
Pretesting | Elementary, middle, and high school students | 750 | 1 | 2 | 1,500
Total |  |  |  |  | 3,000

Dated: April 25, 2001.
Nancy Cheal,
Acting Associate Director for Policy, Planning and Evaluation, Centers for Disease Control and Prevention.

[FR Doc. 01-11052 Filed 5-2-01; 8:45 am]

BILLING CODE 4163-18-P